DEPARTMENT OF HOMELAND SECURITY

Federal Emergency Management Agency

[Docket ID FEMA-2025-0002; Internal Agency Docket No. FEMA-B-2517]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Alabama:
Lee | City of Auburn (25-04-0327P) | The Honorable Ron Anders Jr., Mayor, City of Auburn, 144 Tichenor Avenue, Suite 1, Auburn, AL 36830. | City Hall, 144 Tichenor Avenue, Auburn, AL 36830. | https://msc.fema.gov/portal/advanceSearch. | Jul. 7, 2025 | 010144
Lee | Unincorporated areas of Lee County (25-04-0327P). | The Honorable Bill English, Probate Judge, Lee County, 215 South 9th Street, Opelika, AL 36801. | Lee County EMA, 908 Avenue B, Opelika, AL 36801. | https://msc.fema.gov/portal/advanceSearch. | Jul. 7, 2025 | 010250
Limestone | City of Huntsville (24-04-7956P). | The Honorable Thomas Battle, Jr., Mayor, City of Huntsville, P.O. Box 308, Huntsville, AL 35804. | City Hall, 308 Fountain Circle Southwest, Huntsville, AL 35804. | https://msc.fema.gov/portal/advanceSearch. | Jul. 10, 2025 | 010153
Mobile | Unincorporated areas of Mobile County (24-04-5681P). | The Honorable Connie Hudson, Chair, Mobile County Commission, 205 Government Street, Mobile, AL 36644. | Mobile County Health Department, 1110 Schillinger Road North, Suite 100, Mobile, AL 36644. | https://msc.fema.gov/portal/advanceSearch. | Jun. 25, 2025 | 015008
Florida:
Bay | City of Panama City Beach (24-04-4993P). | The Honorable Stuart Tettemer, Mayor, City of Panama City Beach, 17007 Panama City Beach Parkway, Panama City Beach, FL 32413. | Building Department, 116 South Arnold Road, Panama City Beach, FL 32413. | https://msc.fema.gov/portal/advanceSearch. | Jul. 10, 2025 | 120013
Collier | Unincorporated areas of Collier County (24-04-2903P). | Amy Patterson, Collier County Manager, 3299 Tamiami Trail East, Naples, FL 34112. | Collier County Growth Management Community Development Department (GMCDD), 2800 North Horseshoe Drive, Suite 756, Naples, FL 34104. | https://msc.fema.gov/portal/advanceSearch. | Jul. 7, 2025 | 120067
Leon | City of Tallahassee (24-04-1722P). | The Honorable John E. Dailey, Mayor, City of Tallahassee, 300 South Adams Street, Tallahassee, FL 32301. | Stormwater Management, 300 South Adams Street, Tallahassee, FL 32301. | https://msc.fema.gov/portal/advanceSearch. | Jul. 7, 2025 | 120144
Leon | Unincorporated areas of Leon County (24-04-1722P). | Vincent S. Long, Leon County Administrator, 301 South Monroe Street, Tallahassee, FL 32301. | Leon County Environmental Services Department, 435 North Macomb Street, Tallahassee, FL 32301. | https://msc.fema.gov/portal/advanceSearch. | Jul. 7, 2025 | 120144
Monroe | Unincorporated areas of Monroe County (25-04-0146P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | May 16, 2025 | 125129
Orange | City of Orlando (24-04-0556P). | The Honorable Buddy Dyer, Mayor, City of Orlando, 400 South Orange Avenue, Orlando, FL 32801. | Public Works Department, Engineering Division, 400 South Orange Avenue, Orlando, FL 32801. | https://msc.fema.gov/portal/advanceSearch. | Jul. 15, 2025 | 120186
Orange | City of Orlando (24-04-4587P). | The Honorable Buddy Dyer, Mayor, City of Orlando, 400 South Orange Avenue, Orlando, FL 32801. | Public Works Department, Engineering Division, 400 South Orange Avenue, Orlando, FL 32801. | https://msc.fema.gov/portal/advanceSearch. | Jul. 17, 2025 | 120186
Orange | City of Orlando (24-04-6542P). | The Honorable Buddy Dyer, Mayor, City of Orlando, 400 South Orange Avenue, Orlando, FL 32801. | Public Works Department, Engineering Division, 400 South Orange Avenue, Orlando, FL 32801. | https://msc.fema.gov/portal/advanceSearch. | Jul. 11, 2025 | 120186
Pasco | Unincorporated areas of Pasco County (24-04-5324P). | Ron Oakley, Chair, Pasco County Board of Commissioners, 8731 Citizens Drive, New Pott Richey, FL 33525. | Building Construction Services Department, 8661 Citizens Drive, Suite 100, New Port Richey, FL 34654. | https://msc.fema.gov/portal/advanceSearch. | Jun. 23, 2025 | 120230
St. Johns | Unincorporated areas of St. Johns County (24-04-7357P). | Joy Andrews, Administrator, St. Johns County Board of Commissioners, 500 San Sebastian View, St. Augustine, FL 32084. | St. Johns County Administration Building, 500 San Sebastian View, St. Augustine, FL 32084. | https://msc.fema.gov/portal/advanceSearch. | Jul. 7, 2025 | 125147
Georgia:
Clayton | Unincorporated areas of Clayton County (24-04-4762P). | The Honorable Alieka Anderson-Henry, Chair, Clayton County Board of Commissioners, 112 Smith Street, Annex 1, Jonesboro, GA 30236. | Clayton County Government Building, 112 Smith Street, Annex 1, Jonesboro, GA 30236. | https://msc.fema.gov/portal/advanceSearch. | May 29, 2025 | 130041
Seminole | City of Donalsonville (24-04-2309P). | The Honorable Ron Johnson Jr., Mayor, City of Donalsonville, 127 East 2nd Street, Donalsonville, GA 39845. | City Hall, 127 East 2nd Street, Donalsonville, GA 39845. | https://msc.fema.gov/portal/advanceSearch. | May 16, 2025 | 130164
Seminole | Unincorporated areas of Seminole County (24-04-2309P). | The Honorable Shelia Williams, Chair, Seminole County, Board of Commissioners, 230 Cherry Street, Donalsonville, GA 39845. | Seminole County Courthouse Annex, 230 Cherry Street, Donalsonville, GA 39845. | https://msc.fema.gov/portal/advanceSearch. | May 16, 2025 | 130387
Illinois: Will | Village of Romeoville (23-05-2250P). | The Honorable John D. Noak, Mayor, Village of Romeoville, 1050 West Romeo Road, Romeoville, IL 60446. | Village Hall, 1050 West Romeo Road, Romeoville, IL 60446. | https://msc.fema.gov/portal/advanceSearch. | Jul. 7, 2025 | 170711
Indiana:
Vigo | City of Terre Haute (24-05-0143P). | The Honorable Brandon Sakbun, Mayor, City of Terre Haute, 17 Harding Avenue, Room 2002, Terre Haute, IN 47807. | City Hall, 17 Harding Avenue, Terre Haute, IN 47807. | https://msc.fema.gov/portal/advanceSearch. | Jul. 7, 2025 | 180264
Vigo | Unincorporated areas of Vigo County (24-05-0143P). | The Honorable Chris Switzer, Chair, Vigo County Board of Commissioners, 650 South 1st Street, Terre Haute, IN 47807. | Vigo County Planning Department, 159 Oak Street, Terre Haute, IN 47807. | https://msc.fema.gov/portal/advanceSearch. | Jul. 7, 2025 | 180263
Kansas:
Sedgwick | City of Wichita (24-07-0114P). | The Honorable Lily Wu, Mayor, City of Wichita, 455 North Main, Wichita, KS 67202. | City Hall, 455 North Main, Wichita, KS 67202. | https://msc.fema.gov/portal/advanceSearch. | Jul. 2, 2025 | 200328
Sedgwick | Unincorporated areas of Sedgwick County (24-07-0114P). | Tom Stolz, Manager, Sedgwick County, 100 North Broadway, Suite 630, Wichita, KS 67202. | Wichita-Sedgwick County Metropolitan Area Planning Department, 271 West 3rd Street North, Wichita, KS 67202. | https://msc.fema.gov/portal/advanceSearch. | Jul. 2, 2025 | 200321
New Mexico: Bernalillo | City of Albuquerque (24-06-1836P). | The Honorable Timothy M. Keller, Mayor, City of Albuquerque, P.O. Box 1293, Albuquerque, NM 87103. | City Hall, 1 Civic Plaza, Albuquerque, NM 87102. | https://msc.fema.gov/portal/advanceSearch. | Jul. 7, 2025 | 350002
New York:
Rockland | Town of Orangetown (24-02-0638P). | The Honorable Teresa M. Kenny, Supervisor, Town of Orangetown, 26 Orangeburg Road, Orangeburg, NY 10962. | Town Hall, 26 Orangeburg Road, Orangeburg, NY 10962. | https://msc.fema.gov/portal/advanceSearch. | Aug. 20, 2025 | 360686
Rockland | Village of Spring Valley (24-02-0638P). | The Honorable Alan Simon, Mayor, Village of Spring Valley, 200 North Main Street, Spring Valley, NY 10977. | Village Hall, 200 North Main Street, Spring Valley, NY 10977. | https://msc.fema.gov/portal/advanceSearch. | Aug. 20, 2025 | 365344
North Carolina:
Polk | Unincorporated areas of Polk County (23-04-6093P). | Myron Yoder, Chair, Polk County Board of Commissioners, P.O. Box 308, Columbus, NC 28722. | Polk County Planning and Zoning Department, 35 Walker Street, Columbus, NC 28722. | https://msc.fema.gov/portal/advanceSearch. | Jul. 9, 2025 | 370194
Wake | Town of Apex (24-04-7904P). | The Honorable Jacques Gilbert, Mayor, Town of Apex, P.O. Box 250, Apex, NC 27502. | Engineering Department, 73 Hunter Street, Apex, NC 27502. | https://msc.fema.gov/portal/advanceSearch. | Jul. 18, 2025 | 370467
Ohio:
Fairfield | Unincorporated areas of Fairfield County (24-05-0603P). | Aundrea Cordle, Fairfield County Administrator, 210 East Main Street, Room 301, Lancaster, OH 43130. | Fairfield County Administration Building, 138 West Chestnut Street, Lancaster, OH 43130. | https://msc.fema.gov/portal/advanceSearch. | Jul. 14, 2025 | 390158
Franklin | Village of Canal Winchester (24-05-0603P). | The Honorable Joe Steager, Mayor, Village of Canal Winchester, 45 East Waterloo Street, Canal Winchester, OH 43110. | Fairfield County Records Center, 45 East Waterloo Street, Canal Winchester, OH 43110. | https://msc.fema.gov/portal/advanceSearch. | Jul. 14, 2025 | 390169
South Carolina: Chester | Unincorporated areas of Chester County (24-04-5651P). | Brian Hester Chester County Administrator, P.O. Box 580, Chester, SC 29706. | Chester County Building and Zoning Department, 1476 J.A. Cochran Bypass, Chester, SC 29706. | https://msc.fema.gov/portal/advanceSearch. | Jul. 3, 2025 | 450047
Texas:
Collin | City of Celina (24-06-1831P). | The Honorable Ryan Tubbs, Mayor, City of Celina, 142 North Ohio Street, Celina, TX 75009. | City Hall, 142 North Ohio Street, Celina, TX 75009. | https://msc.fema.gov/portal/advanceSearch. | Jul. 14, 2025 | 480133
Collin | Unincorporated areas of Collin County (24-06-1831P). | The Honorable Chris Hill, Collin County Judge, 2300 Bloomdale Road, Suite 4192, McKinney, TX 75071. | Collin County Engineering Building, 4690 Community Avenue, Suite 200, McKinney, TX 75071. | https://msc.fema.gov/portal/advanceSearch. | Jul. 14, 2025 | 480130
Hays | City of San Marcos (24-06-0699P). | Stephanie Reyes, Manager, City of San Marcos, 630 East Hopkins Street, San Marcos TX 78666. | City Hall, 630 East Hopkins Street, San Marcos, TX 78666. | https://msc.fema.gov/portal/advanceSearch. | Jun. 26, 2025 | 485505
Rockwall | City of Fate (24-06-2278P). | The Honorable David Billings, Mayor, City of Fate, 1900 C.D. Boren Parkway, Fate, TX 75087. | City Hall, 1900 C.D. Boren Parkway, Fate, TX 75087. | https://msc.fema.gov/portal/advanceSearch. | Jul. 7, 2025 | 480544
Virginia: Prince William | Unincorporated areas of Prince William County (24-03-0863P). | The Honorable Deshundra Jefferson, Chair at-Large, Prince William County Board of, Supervisors, 1 County Complex Court, Prince William, VA 22192. | Prince William County Department of Public Works, Environmental Management Division, 5 County Complex Court, Suite 170, Prince William, VA 22192. | https://msc.fema.gov/portal/advanceSearch. | Jul. 18, 2025 | 510119

[FR Doc. 2025-09213 Filed 5-21-25; 8:45 am]

BILLING CODE 9110-12-P